DEPARTMENT OF TRANSPORTATION

Federal Transit Administration

Preparation of an Environmental Impact Statement for the Van Ness Avenue Bus Rapid Transit Project in San Francisco, CA

AGENCY: Federal Transit Administration (FTA), Department of Transportation (DOT).

ACTION: Notice of Intent (NOI) to prepare Environmental Impact Statement (EIS).

SUMMARY: Pursuant to Section 102(2)(C) of the National Environmental Policy Act (NEPA), the Council of Environmental Quality Regulations (40 CFR part 1505.6), and the California Environmental Quality Act (CEQA) Section 151710, the Federal Transit Administration (FTA), in cooperation with the San Francisco County Transportation Authority (SFCTA), will prepare a joint Environmental Impact Statement/Environmental Impact Report (EIS/EIR) for the Van Ness Avenue Bus Rapid Transit (BRT) Project, an approximately two-mile transit improvement along Van Ness Avenue through the City and County of San Francisco, California. The Project would create dedicated bus lanes from approximately South Van Ness Avenue and Mission Street (south end) to Van Ness Avenue and Lombard Street (north end). The project would also establish high capacity stations with passenger amenities and low-level boarding platforms; real time bus arrival information systems; proof-of-payment fare verification; transit signal priority; and modern, high-capacity, low-floor, multi-door buses.

The EIS/EIR will evaluate the following alternatives: (1) No-Project/Baseline Alternative; (2) Van Ness Avenue BRT Project, which will include design options for the configuration of the BRT transitway and stations; and (3) any additional reasonable alternatives that emerge from the study process. The EIS will be prepared in accordance with FTA regulations (23 CFR 771 et seq.) implementing the National Environmental Policy Act (NEPA) as well as provisions of the Safe, Accountable, Flexible, Efficient Transportation Equity Act: A Legacy for Users (SAFETEA-LU). The EIR will be prepared in accordance with the California Environmental Quality Act (California Code of Regulation, Title 14, Chapter 3). As part of the EIS/EIR process, an evaluation of potential transit improvement alternatives will be completed (``alternatives analysis'') in accordance with 23 CFR Part 450 and inform the development of project alternatives.

Previous studies and documents relevant to this action include the recently completed Van Ness Avenue BRT Feasibility Study (December 2006); 2005 Prop K Strategic Plan (March 2005); 2004 San Francisco Countywide Transportation Plan (adopted July 20, 2004), and the New Transportation Expenditure Plan for San Francisco (Proposition K, approved November 4, 2003). These documents describe the planning and funding for transportation improvements in San Francisco, including BRT in major bus corridors. These documents can be downloaded at the Web site www.sfcta.org, or requested from the Authority.

EIS/EIR preparation will be initiated through a formal NEPA scoping process, which solicits input on issues and potential project impacts to consider in the environmental studies. Scoping will be accomplished through meetings and correspondence with interested persons, organizations, the general public, and Federal, State, and local agencies. Letters describing the proposed action and soliciting comments have been sent to the appropriate Federal, State, and local agencies, and to private organizations and individuals. Comments on issues and impacts to be considered in preparation of the EIS/EIR will be recorded in the project information database.

DATES: Comment Due Date: Written comments on the scope of alternatives and impacts to be considered must be postmarked no later than October 18, 2007 and should be sent to SFTA at the contact address below.

NEPA Scoping Meeting Date: The public scoping meetings will be held on October 2, 2007 at the Holiday Inn Golden Gateway, 1500 Van Ness Avenue, San Francisco, CA, from 6 p.m. to 8 p.m. The meeting agenda will include opportunities to speak with project staff, viewing of information on the project, a brief presentation of the project purpose and alternatives, and opportunity for meeting participants to comment on issues of interest. The open house will resume after the presentation and comment period. Project staff will be present to receive formal agency and public input regarding the scope of the environmental studies, key issues, and other suggestions. The meeting room is accessible to persons with disabilities. Any individual with a disability who requires special assistance, such as a sign language interpreter, or any individual who requires English language interpretation should contact the SFCTA at 415-593-1423 at least 48 hours in advance of the meeting in order for the SFCTA to make necessary arrangements.

ADDRESSES: The scoping meeting will be held at the locations identified in the NEPA Scoping Meeting Date section above. Written comments should be sent to: Rachel Hiatt, Senior Transportation Planner, San Francisco County Transportation Authority; 100 Van Ness Avenue, 26th Floor; San Francisco, CA 94612. Phone: 415-522-4809 or Rachel.Hiatt@sfcta.org. To be added to the mailing list for the Van Ness Avenue BRT Project, contact Ms. Hiatt at the address listed above. Persons with special needs should leave a message at the phone number above.

FOR FURTHER INFORMATION CONTACT: Donna Turchie, Federal Transit Administration, Office of Planning and Program Development; 201 Mission Street, Suite 1650; San Francisco, CA 94105. Phone: 415-744-2737 or Donna.Turchie@dot.gov. Additional information on the Van Ness Avenue BRT Project can be found on the project Web site at: http://www.vannessbrt.org/ and by contacting Rachel Hiatt at the SFCTA.

SUPPLEMENTARY INFORMATION:

I. Project Background

The proposed project would be located in a key north-south transportation corridor in the heart of the City and County of San Francisco. Van Ness Avenue is an important roadway and transit route serving high density commercial, residential, and civic/institutional areas along its length from the U.S. and State Highway Route 101 freeway on the south to San Francisco Bay on the north. It is an at-grade continuation of U.S. and State Highway Route 101 from the freeway to Lombard Street, which continues west to Doyle Drive and the Golden Gate Bridge. The roadway serves as a major thoroughfare for local traffic as well as through traffic, carrying over 50,000 people in cars per day and about 4000 people in vehicles during the pm peak hour. Transit service is provided by Muni routes 47 and 49, and by Golden Gate Transit (based in Marin County), which operates commute service and limited all-day service into San Francisco on Van Ness Avenue. About 43,000 passengers use Muni Routes 47 and 49 and the Golden Gate Transit Van Ness routes daily, with approximately 15,000 passengers riding daily within the Van Ness Avenue segment of service. A number of major east-west transit routes cross Van Ness Avenue and generate major bus-to-bus and bus-to-rail transfers with Van Ness Avenue services, including the muni Metro lines and the Muni lines 38 (Geary) and 38L (Geary Limited).

Traffic congestion in mix-flow traffic lanes and transit overcrowding result in poor transit service reliability and low average bus speeds, currently just 5 to 7 miles per hour during commute periods. Bus reliability is poor, with high variation in headways and bus bunching. Transit mode shares are low relative to the potential transit market along this corridor, where housing densities within one-quarter mile of Van Ness Avenue average over 90 units per acre, where 46% of households do not own a car (relative to 29% citywide), and where the city expects to add about 3,800 new housing units and 8,500 new jobs by 2025.

Van Ness Avenue has been identified as a high priority transit improvement corridor in a number of planning studies and funding actions by the City. The Authority's Four Corridors Plan (1995) and Muni's Vision for Rapid Transit (2000) identified Van Ness as a priority corridor for rapid transit improvements. Along with two other key transit corridors, Van Ness Avenue was designated for BRT improvements in the New Expenditure Plan for San Francisco, approved by voters as Proposition K, the reauthorization of the City's ½ cent transportation sales tax measure, in November 2003. The Expenditure Plan is the investment component of the 2004 San Francisco Countywide Transportation Plan, which sets forth the city's “blueprint to guide the development of transportation funding priorities and policy” with a key objective being the promotion and implementation of San Francisco's transit first policy through the development of a network of fast, reliable transit including bus rapid transit. The Van Ness Avenue BRT Feasibility Study was initiated in 2004, completed in 2006, and evaluated the feasibility of four alternative BRT configurations on Van Ness Avenue. Four BRT alternatives were developed and compared with a No Project scenario, in conjunction with a comprehensive public and agency participation program. The Feasibility Study found that all four BRT configurations are feasible on Van Ness and recommended an environmental analysis to identify a preferred alternative. The alternatives form the foundation for the BRT improvements to be evaluated in the proposed project EIS/EIR.

II. Purpose and Need

The City and County of San Francisco adopted as part of the 2004 Countywide Transportation Plan and its investment component, the New Expenditure Plan for San Francisco, a bus rapid transit strategy for expanding rapid transit service in San Francisco. The BRT network is intended to address the following purpose:

1. Support the city's growth and development needs

2. Better serve existing transit riders and stem and reverse the trend toward transit mode share loss

3. Improve the operational efficiency and cost effectiveness of the transportation system.

A BRT network can meet those goals by:—

• Improving transit levels of service cost effectively.

• Strengthening rapid transit services

• Raising the cost effectiveness of Muni service and operational efficiency of transit preferential streets

• Contributing to livability of BRT corridors

Specific Van Ness BRT project purpose and need statements linked to these goals were subsequently established to guide the development of a BRT project for the Van Ness Avenue corridor. They guided preparation of the Van Ness Avenue BRT Feasibility Study (2005-2006), and include:

• Close the performance gap between transit and automobile travel on Van Ness Avenue. For transit, this means reducing travel time (including wait time); significantly increasing reliability and reducing bunching; reducing crowding; and improving connectivity and safety.

• Raise the operational efficiency of Van Ness Avenue. San Francisco has limited roadway capacity and no space to expand the network. It is also difficult in many areas to travel by auto given the obstacles—limited capacity and resulting congestion on key roadway segments. It is city policy to encourage travel by higher capacity modes to expand the transportation network's carrying capacity and use it more efficiently. BRT offers a means to expand the overall capacity of Van Ness Avenue. However, transit buses must be separated from the existing traffic and pedestrian congestion and other impediments to efficient, fast travel.

Transit infrastructure improvements would allow Muni to operate buses more efficiently and improve the productivity of buses by enabling each bus to complete more runs per hour. Frequent stops and starts and slowed, sometimes uneven, operations in congested conditions increase the wear and tear on buses and also fuel consumption. Improving average bus speeds would lead to more efficient operations and allow Muni to serve more passengers at a lower cost per passenger.

• Raise the level of amenities and urban design of Van Ness Avenue. Van Ness Avenue is currently not an appealing urban environment for pedestrians. The Van Ness Avenue BRT Project incorporates elements that enhance the urban design and identity of Van Ness Avenue, especially at major transit nodes such as Mission Street and South Van Ness, Market Street, and Geary and O'Farrell streets. Transit capital improvements properly done and integrated with other design initiatives would make the street more livable and attractive for residents and commercial and institutional uses along its length. The BRT on Van Ness Avenue Project would incorporate pedestrian safety and urban design features and help transform Van ness Avenue into a “signature Preferential Transit Street and distinctive gateway into San Francisco.”

• Accommodate future mobility needs. This need is linked to the continuing growth in the San Francisco and the region. More housing and more households now exist than in 2000 and they are projected to continue growing, with population increasing almost 20 percent by 2030 (Association of Bay Area Governments, Projections 2005; San Francisco's 2000 population was 776,733; 2030 population is projected to be 924,600). Employment is forecast to grown by 29 percent during the same period, to 829,090 jobs available by 2030 (ABAG). Along the Van Ness Avenue corridor itself, over 3,800 new housing units and 8,500 new jobs are anticipated. Transit priority and other congestion management measures offer an important way to accommodate the resulting growth in travel demand, which will be focused on the major transportation corridors in the city. Van Ness Avenue is one of these critical corridors.

III. Alternatives

Alternatives to be reviewed in the include a (1) No-Project/Baseline Alternative, which would encompass low cost improvements to corridor bus services, such as bus stop amenities and limited transit signal priority; (2) Van Ness Avenue BRT Project, which would provide a full complement of BRT improvements in two or more cross-sectional configurations for Van Ness Avenue between approximately Mission Street and Lombard Street; and (3) any other service, alignment or cross-sectional alternatives that emerge from the scoping and alternatives analysis processes.

The No-Project Alternative assumes a 2030 condition of land use and transportation capital and service improvements that are programmed or planned to be implemented by the San Francisco Municipal Transportation Agency (MTA, which includes San Francisco Muni and the Department of Parking and Traffic) and other transit providers in the study area (e.g. Golden Gate Transit, Caltrain, the commuter rail service between San Francisco and San Jose, and the Bay Area Rapid Transit District, or BART, a regional rail service provider). For transit, these include upgraded bus stops and passenger information/communication systems. Other transportation system improvements, such roadway traffic management measures, street lighting upgrades, and street resurfacing/landscaping projects that would be the responsibility of the San Francisco Department of Public Works (DPW), the Public Utilities Commission (PUC), or the California State Department of Transportation (Caltrans), will be included in the 2030 No-Project network. This network will also form the background network for the build alternatives.

The Van Ness Avenue BRT Project would include, among other features, dedicated transit lanes within the existing Van Ness Avenue right-of-way; sheltered, low-platform passenger stations with real time bus arrival passenger information signs, lighting, and wayfinding; self-service fare vending on station platforms and on-board proof-of-payment verification; and advanced transit traffic signal priority and traffic management systems to reduce bus delays at signalized intersections yet maintain acceptable traffic flow. Passenger stations would be spaced on average every 940 feet with local bus service one block to the east. BRT transitway and stations improvements would be made entirely within existing public rights-of-way; improvements outside of existing public rights of way are not anticipated with the possible exception of required improvements to existing Muni bus storage and maintenance facilities and to off-alignment intersections and parking facilities for mitigation of project impacts. Variations in the cross-section for the BRT transitway and the locations of stations are anticipated and would comprise design options for the basic BRT alignment. A two-way transitway either in the median of Van Ness Avenue or along the outside curbs (one northbound BRT lane along the east curb/parking lane; one southbound BRT lane along the west curb/parking lane) and, correspondingly, stations in the median or as extensions of the sidewalk were considered in the Van Ness Avenue BRT Feasibility Study and warrant further evaluation as part of the EIS/EIR and alternatives analysis.

The SFCTA in association with Muni will evaluate the procurement of modern low-floor high-capacity vehicles that would be assigned to the BRT service and have added features, such as two-sided multidoor access, passenger station docking assist, and other amenities. Streetscape improvements, such as enhanced landscaping and pedestrian access along Van Ness Avenue, are also included in the proposed BRT project.

IV. Probable Effects

FTA and SFCTA will evaluate the transportation, environmental, social, and economic impact of each alternative. Effects of the Van Ness Avenue BRT Project will be compared to the No Project/Baseline. The overall benefits of the Van Ness Avenue BRT Project, including on transit speeds and reliability, new riders, and transportation system user benefits, will be relative to the No Project/Baseline Alternative. The Van Ness Avenue BRT Project Alternative is expected to improve transit speeds and increase transit reliability; increase bus transit ridership; improve access and mobility for San Francisco residents, many of whom are highly dependent on transit; and provide competitive transit access to major employment and activity centers relative to the No Project/Baseline Alternative.

Increased congestion and worsening conditions for transit service along Van Ness Avenue are expected without a significant improvement. The No Project/Baseline Alternatives would not eliminate the main impediments to efficient and effective service in the corridor—auto/transit conflicts in mixed-flow lanes. The Van Ness Avenue BRT Project may affect the following areas: Traffic operations; parking; local access and circulation; visual and aesthetic effects; historic and cultural resources; disturbance of pre-existing hazardous wastes; and temporary construction-phase impacts. Impacts of the Van Ness Avenue BRT Project will be evaluated for both the construction period and for the long-term period of operation. Mitigation measures will be identified and evaluated for avoiding and reducing adverse effects.

To ensure all significant issues related to the proposed project are identified and addressed in the ESI/EIR and alternatives analysis, comments and suggestions are invited from all interested parties. Comments, suggestions, and questions concerning the proposed action should be directed to the contacts listed above.

V. FTA Procedures

In accordance with the FTA policy, all Federal laws, regulations and executive orders affecting project development, including but not limited to the regulations of the Council on Environmental Quality and FTA implementing NEPA (40 CFR parts 1500-1508 and 23 CFR part 771); the conformity requirements of the Clean Air Act; section 4040 of the Clean Water Act; Executive Order 12898 regarding environmental justice; the National Historic Preservation Act; the Endangered Species Act; and section 4(f) of the Department of Transportation Act, will be addressed to the maximum extent practicable during the NEPA process. Prior transportation planning studies may be pertinent to establishing the purpose and need for the proposed action and the range of alternatives to be evaluated in detail in the EIS/EIR. The Draft EIS/EIR will be prepared simultaneously with conceptual engineering for the alternatives, including bus stop and alignment options. The Draft EIS/EIR process will address the potential use of Federal funds for the proposed action, as well as assessing social, economic, and environmental impacts of the proposed Van Ness Avenue BRT Project. The Project will be refined to minimize and mitigate any adverse impacts.

After publication, the Draft EIS/EIR will be available for public and agency review and comment, and a public hearing will be held. Based on the Draft EIS/EIR and comments received, the San Francisco County Transportation Authority Board will select a locally preferred alternative (LPA) for further assessment in the Final EIS/EIR, which will be based on further engineering of the LPA and other remaining alternatives. SFCTA intends to request FTA approval to enter Project Development and secure funding under the Small Starts program prior to initiating further engineering (e.g., preliminary engineering) and preparing the Final EIS/EIR.

Issued on September 19, 2007.
Leslie T. Rogers,
Regional Administrator.

[FR Doc. 07-4713 Filed 9-21-07; 8:45 am]

BILLING CODE 4910-57-M